DEPARTMENT OF TRANSPORTATION

Coast Guard

33 CFR Part 167

[USCG-2001-11201]

Port Access Routes Study; Along the Sea Coast and in the Approaches to the Cape Fear River and Beaufort Inlet, North Carolina

AGENCY: Coast Guard, DOT.

ACTION: Notice of study; reopening of comment period.

SUMMARY: The Coast Guard announced in the Federal Register that we were conducting a Port Access Routes Study (PARS) to evaluate the need for vessel-routing or other vessel-traffic-management measures along the sea coast of North Carolina and in the approaches to the Cape Fear River and Beaufort Inlet. We understand that government agencies as well as private entities did not receive notification of the PARS until late in the original comment period, which ended March 19, 2002. Therefore, we're reopening the comment period through May 19, 2002, to allow more time for public comment.

DATES: Comments and related material must reach the Docket Management Facility on or before May 19, 2002.

ADDRESSES: To make sure that your comments and related material are not entered more than once in the docket, please submit them by only one of the following means:

(1) By mail to the Docket Management Facility (USCG-2001-11201), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this document. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice of study, call Tom Flynn, Project Officer, Aids to Navigation and Waterways Management Branch, Fifth Coast Guard District, telephone 757-398-6229, e-mail TWflynn@lantd5.uscg.mil; or George Detweiler, Office of Vessel Traffic Management, Coast Guard, telephone 202-267-0574, e-mail Gdetweiler@comdt.uscg.mil. If you have questions on viewing or submitting material to the docket, call Dorothy Beard, Chief, Dockets, Department of Transportation, telephone 202-366-5149.

SUPPLEMENTARY INFORMATION:

Request for Comments

We encourage you to participate in this study by submitting comments and related material. If you do so, please include your name and address, identify the docket number for this notice of study (USCG-2001-11201), indicate the specific section of this document to which each comment applies, and give the reason for each comment. You may submit your comments and material by mail, delivery, fax, or electronic means to the Docket Management Facility at the address under ADDRESSES; but please submit your comments and material by only one means. If you submit them by mail or delivery, submit them in an unbound format, no larger than 81/2 by 11 inches, suitable for copying and electronic filing. If you submit them by mail and would like to know that they reached the Facility, please enclose a stamped, self-addressed postcard or envelope. We will consider all comments and material received during the comment period.

Public Meeting

We do not now plan to hold a public meeting. But you may submit a request for one to the Docket Management Facility at the address under ADDRESSES explaining why one would be beneficial. If we determine that one would aid this study, we will hold one at a time and place announced by a later notice in the Federal Register.

Background and Purpose

On January 18, 2002, the Coast Guard published a notice in the Federal Register entitled “Port Access Routes Study; Along the Sea Coast and in the Approaches to the Cape Fear River and Beaufort Inlet, North Carolina” (67 FR 2616). The purpose of the study is to evaluate the need for vessel-routing or other vessel-traffic-management measures along the sea coast of North Carolina and in the approaches to the Cape Fear River and Beaufort Inlet.

The goal of the study is to help reduce the risk of marine casualties and increase the efficiency of management of vessel traffic in the study area. The recommendations of the study may lead to future rulemaking or to appropriate international agreements.

Dated: April 9, 2002.
Joseph J. Angelo,
Director of Standards, Marine Safety, Security and Environmental Protection.

[FR Doc. 02-9109 Filed 4-15-02; 8:45 am]

BILLING CODE 4910-15-P